DEPARTMENT OF COMMERCE

International Trade Administration

[A-580-883]

Certain Hot-Rolled Steel Flat Products From the Republic of Korea: Preliminary Results and Rescission, in Part, of Antidumping Duty Administrative Review; 2022-2023

AGENCY: Enforcement and Compliance, International Trade Administration, Department of Commerce.

SUMMARY: The U.S. Department of Commerce (Commerce) preliminarily finds that certain hot-rolled steel flat products (hot-rolled steel) from the Republic of Korea (Korea) were sold in the United States at less than normal value during the period of review (POR) October 1, 2022, through September 30, 2023. Additionally, Commerce is rescinding the review, in part, with respect to 46 companies that had no entries of subject merchandise during the POR. We invite interested parties to comment on these preliminary results.

DATES: Applicable November 13, 2024.

FOR FURTHER INFORMATION CONTACT: Bryan Hansen or Thomas Schauer, AD/CVD Operations, Office I, Enforcement and Compliance, International Trade Administration, U.S. Department of Commerce, 1401 Constitution Avenue NW, Washington, DC 20230; telephone: (202) 482-3683 or (202) 482-0410, respectively.

SUPPLEMENTARY INFORMATION:

Background

On October 3, 2016, Commerce published in the Federal Register an antidumping duty order on hot-rolled steel from Korea.¹ On October 3, 2023, Commerce published in the Federal Register a notice of opportunity to request an administrative review of the Order for the POR.² On December 6, 2023, based on timely requests for an administrative review, Commerce initiated this administrative review of the Order with respect to 48 companies.³ On May 22, 2024, pursuant to 19 CFR 351.213(h)(2), we extended the deadline to issue these preliminary results to no later than October 30, 2024.⁴ On July 22, 2024, Commerce tolled certain deadlines in this administrative proceeding by seven days.⁵ The deadline for the preliminary results is now November 6, 2024.

¹ See Certain Hot-Rolled Steel Flat Products from Australia, Brazil, Japan, the Republic of Korea, the Netherlands, the Republic of Turkey, and the United Kingdom: Amended Final Affirmative Antidumping Determinations for Australia, the Republic of Korea, and the Republic of Turkey and Antidumping Duty Orders, 81 FR 67962 (October 3, 2016) (Order).

² See Antidumping or Countervailing Duty Order, Finding, or Suspended Investigation; Opportunity To Request Administrative Review and Join Annual Inquiry Service List, 88 FR 68098 (October 3, 2023).

³ See Initiation of Antidumping and Countervailing Duty Administrative Reviews, 88 FR 84784, 84786-87 (December 6, 2023).

⁴ See Memorandum, “Extension of Deadline for Preliminary Results of Antidumping Duty Administrative Review; 2022-2023,” dated May 22, 2024.

⁵ See Memorandum, “Tolling of Deadlines for Antidumping and Countervailing Duty Proceedings,” dated July 22, 2024.

Scope of the Order

The products covered by this Order are hot-rolled steel from Korea. A full description of the scope of the Order is contained in the Preliminary Decision Memorandum.⁶

⁶ See Memorandum, “Decision Memorandum for the Preliminary Results of Antidumping Duty Administrative Review of Certain Hot-Rolled Steel Flat Products from the Republic of Korea; 2022-2023,” dated concurrently with, and hereby adopted by, this notice (Preliminary Decision Memorandum), at 3-5.

Rescission of Administrative Review, in Part

Pursuant to 19 CFR 351.213(d)(3), Commerce will rescind an administrative review when there are no reviewable suspended entries. Based on our analysis of U.S. Customs and Border Protection (CBP) information, we preliminarily determine that 46 companies had no entries of subject merchandise during the POR.⁷ On December 19, 2023, we notified interested parties of our intent to rescind this administrative review with respect to the 46 companies, listed in Appendix II of this notice, that had no reviewable suspended entries during the POR.⁸ No parties commented on our intent to rescind. As a result, we are rescinding this review, in part, with respect to the 46 companies, as listed in Appendix II of this notice.

⁷ See Memorandum, “Mandatory Respondent Identification,” dated December 19, 2023.

⁸ See Memorandum, “Intent to Rescind Review, in Part,” dated December 19, 2023.

Methodology

Commerce is conducting this review in accordance with sections 751(a)(1)(B) and (2) of the Tariff Act of 1930, as amended (the Act). We calculated export price and constructed export price in accordance with section 772 of the Act and we calculated normal value in accordance with section 773 of the Act. For a full description of the methodology underlying these preliminary results, see the Preliminary Decision Memorandum. A list of the topics discussed in the Preliminary Decision Memorandum is attached as Appendix I to this notice. The Preliminary Decision Memorandum is a public document and is made available to the public via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Preliminary Results of Review

We preliminarily determine that the following estimated weighted-average dumping margins exist for the period October 1, 2022, through September 30, 2023:

⁹ As we did in previous segments of this proceeding, we continue to treat these two companies as a single entity for the preliminary results of this review. See, e.g., Certain Hot-Rolled Steel Flat Products from the Republic of Korea: Final Results of Antidumping Duty Administrative Review; 2019-2020, 87 FR 12660, 12661 n.2 (March 7, 2022).

Producer/exporter | Weighted- average dumping margin (percent)
Hyundai Steel Company | 0.89
POSCO; POSCO International Corporation ⁹ | 2.10

Disclosure

Commerce intends to disclose its calculations and analysis performed to interested parties for these preliminary results within five days of any public announcement or, if there is no public announcement, within five days of the date of publication of this notice in accordance with 19 CFR 351.224(b).

Public Comment

As provided in sections 782(i)(3)(A)-(B) of the Act, we intend to verify the response of POSCO and POSCO International Corporation after these preliminary results. Case briefs or other written comments may be submitted to the Assistant Secretary for Enforcement and Compliance no later than seven days after the date on which the verification report is issued in this review. Rebuttal briefs, limited to issues raised in the case briefs, may be filed not later than five days after the date for filing case briefs.¹⁰ Interested parties who submit case briefs or rebuttal briefs in this administrative review must submit: (1) a table of contents listing each issue; and (2) a table of authorities.¹¹

¹⁰ See 19 CFR 351.309(d); see also Administrative Protective Order, Service, and Other Procedures in Antidumping and Countervailing Duty Proceedings, 88 FR 67069, 67077 (September 29, 2023) (APO and Service Final Rule).

¹¹ See 19 CFR 351.309(c)(2) and (d)(2).

As provided under 19 CFR 351.309(c)(2) and (d)(2), in prior proceedings we have encouraged interested parties to provide an executive summary of their brief that should be limited to five pages total, including footnotes. In this administrative review, we instead request that interested parties provide at the beginning of their briefs a public, executive summary for each issue raised in their briefs.¹² Further, we request that interested parties limit their public executive summary of each issue to no more than 450 words, not including citations. We intend to use the public executive summaries as the basis of the comment summaries included in the issues and decision memorandum that will accompany the final results of this administrative review. We request that interested parties include footnotes for relevant citations in the public executive summary of each issue. Note that Commerce has amended certain of its requirements pertaining to the service of documents in 19 CFR 351.303(f).¹³

¹² We use the term “issue” here to describe an argument that Commerce would normally address in a comment of the Issues and Decision Memorandum.

¹³ See APO and Service Final Rule, 88 FR 67069.

Pursuant to 19 CFR 351.310(c), interested parties who wish to request a hearing, limited to issues raised in the case and rebuttal briefs, must submit a written request to the Assistant Secretary for Enforcement and Compliance, U.S. Department of Commerce via ACCESS within 30 days after the date of publication of this notice. Hearing requests should contain: (1) the party's name, address, and telephone number; (2) the number of participants; and (3) a list of issues to be discussed. Issues raised at the hearing will be limited to issues raised in the case and rebuttal briefs. If a request for a hearing is made, parties will be notified of the time and date for the hearing.¹⁴ Parties should confirm the date, time, and location of the hearing two days before the scheduled date.

¹⁴ See 19 CFR 351.310(d).

Final Results of Review

Unless otherwise extended, Commerce intends to issue the final results of this administrative review, including the results of its analysis of issues raised in written briefs, no later than 120 days after the date of publication of this notice in the Federal Register, pursuant to section 751(a)(3)(A) of the Act and 19 CFR 351.213(h)(1).

Assessment Rates

Upon completion of the final results of this administrative review, pursuant to section 751(a)(2)(A) of the Act, Commerce shall determine, and CBP shall assess, antidumping duties on all appropriate entries covered by this review. If a respondent's weighted-average dumping margin is not zero or de minimis (i.e., less than 0.50 percent) in the final results of this review, we intend to calculate an importer-specific assessment rate based on the ratio of the total amount of dumping calculated for each importer's examined sales and the total entered value of the sales in accordance with 19 CFR 351.212(b)(1).¹⁵ If the respondent's weighted-average dumping margin or an importer-specific assessment rate is zero or de minimis in the final results of this review, we intend to instruct CBP to liquidate the appropriate entries without regard to antidumping duties.¹⁶

¹⁵ See Antidumping Proceedings: Calculation of the Weighted-Average Dumping Margin and Assessment Rate in Certain Antidumping Proceedings; Final Modification, 77 FR 8101, 8103 (February 14, 2012).

¹⁶ Id., 77 FR at 8102-03; see also 19 CFR 351.106(c)(2).

For entries of subject merchandise during the POR produced by either of the individually examined respondents for which they did not know that the merchandise was destined to the United States, we will instruct CBP to liquidate these entries at the all-others rate if there is no rate for the intermediate company(ies) involved in the transaction.¹⁷ For the companies identified in Appendix II for which we are rescinding the review with these preliminary results, we will instruct CBP to assess antidumping duties on all appropriate entries at rates equal to the cash deposit of antidumping duties required at the time of entry, or withdrawal from warehouse, for consumption, during the POR in accordance with 19 CFR 351.212(c)(1)(i). Commerce intends to issue these rescission instructions to CBP after the date of publication of this notice in the Federal Register.

¹⁷ For a full discussion of this practice, see Antidumping and Countervailing Duty Proceedings: Assessment of Antidumping Duties, 68 FR 23954 (May 6, 2003).

The final results of this administrative review shall be the basis for the assessment of antidumping duties on entries of merchandise covered by the final results of this review and for future deposits of estimated duties, where applicable.¹⁸ Commerce intends to issue assessment instructions regarding the individually examined respondents to CBP no earlier than 35 days after the date of publication of the final results of this review in the Federal Register. If a timely summons is filed at the U.S. Court of International Trade, the assessment instructions will direct CBP not to liquidate relevant entries until the time for parties to file a request for a statutory injunction has expired (i.e., within 90 days of publication).

¹⁸ See section 751(a)(2)(C) of the Act.

Cash Deposit Requirements

The following cash deposit requirements will be effective upon publication in the Federal Register of the notice of the final results of this administrative review for all shipments of subject merchandise entered, or withdrawn from warehouse, for consumption on or after the date of publication as provided by section 751(a)(2)(C) of the Act: (1) the cash deposit rate for the individually examined respondents will be equal to the weighted-average dumping margins established in the final results of this administrative review, except if the rate is less than 0.50 percent and, therefore, de minimis within the meaning of 19 CFR 351.106(c)(1), in which case the cash deposit rate will be zero; (2) for merchandise exported by companies not covered in this review but covered in a prior segment of this proceeding, the cash deposit rate will continue to be the company-specific rate published in the completed segment for the most recent period; (3) if the exporter is not a firm covered in this review, a prior review, or the investigation but the producer is, then the cash deposit rate will be the rate established in the most recently completed segment for the producer of the merchandise; (4) the cash deposit rate for all other producers or exporters will continue to be 6.05 percent, the all-others rate established in the investigation.¹⁹ These cash deposit requirements, when imposed, shall remain in effect until further notice.

¹⁹ See Order, 81 FR at 67965.

Notification to Importers

This notice serves as a preliminary reminder to importers of their responsibility under 19 CFR 351.402(f)(2) to file a certificate regarding the reimbursement of antidumping and/or countervailing duties prior to liquidation of the relevant entries during this POR. Failure to comply with this requirement could result in Commerce's presumption that reimbursement of antidumping and/or countervailing duties occurred and the subsequent assessment of double antidumping duties and/or an increase in the amount of antidumping duties by the amount of countervailing duties.

Notification to Interested Parties

We are issuing and publishing these preliminary results in accordance with sections 751(a)(1) and 777(i)(1) of the Act, 19 CFR 351.213(d)(3), 19 CFR 351.213(h)(2), and 19 CFR 351.221(b)(4).

Dated: November 6, 2024.
Abdelali Elouaradia,
Deputy Assistant Secretary for Enforcement and Compliance.

Appendix I

List of Topics Discussed in the Preliminary Decision Memorandum

I. Summary

II. Background

III. Scope of the Order

IV. Rescission of Administrative Review, in Part

V. Discussion of the Methodology

VI. Currency Conversion

VII. Recommendation

Appendix II

Companies Rescinded From the Administrative Review

1. Aekyung Chemical

2. AJU Besteel Co., Ltd.

3. Ameri Source Korea

4. Chemaven Co., Ltd.

5. Cj Cheiljedang Corp.

6. Cj Global Logistics Service Inc.

7. Dongkuk Industries Co., Ltd.

8. Dongkuk Steel Mill Co., Ltd.

9. Geco Industries Co., Ltd.

10. Geumok Tech. Co., Ltd.

11. Goi Tech Industries Co., Ltd.

12. Golden State Corporation

13. Gs Global Corp.

14. Gs Holdings Corp.

15. Hanawell Co., Ltd.

16. Hanjin Gls Co., Ltd.

17. Hankook Co., Ltd.

18. HISTEEL

19. Hyosung Corporation

20. Hyosung Tnc Corporation

21. Hyundai Glovis Co., Ltd.

22. Hyundai Rb Co., Ltd.

23. Il Jin Nts Co., Ltd.

24. Inchang Electronics Co., Ltd.

25. J&K Korea Co., Ltd.

26. Jeil Industries Co., Ltd.

27. Jeil Metal Co., Ltd.

28. Jin Young Metal

29. Jun Il Co., Ltd.

30. KG Dongbu Steel Co., Ltd.

31. KG Steel Corporation

32. Kumkang Kind Co., Ltd.

33. Lg Electronics Inc.

34. Maxflex Corp.

35. Mitsubishi Corp. Korea

36. Mitsui Chemicals & Skc Polyurethane

37. Nexteel Co., Ltd.

38. Samsung Electronics Co., Ltd.

39. SeAH Steel Corporation

40. Sja Inc. (Korea)

41. Solvay Silica Korea

42. Soon Ho Co., Ltd.

43. Sumitomo Corp. Korea Ltd.

44. Sungjin Precision

45. Wintec Korea Inc.

46. Wonbangtech Co., Ltd.

[FR Doc. 2024-26253 Filed 11-12-24; 8:45 am]

BILLING CODE 3510-DS-P